DEPARTMENT OF COMMERCE

National Oceanic and Atmospheric Administration

[I.D. 112001A]

Endangered Species; Permits

AGENCY: National Marine Fisheries Service (NMFS), National Oceanic and Atmospheric Administration (NOAA), Commerce.

ACTION: Receipt of an application for a research permit (1353).

SUMMARY: Notice is hereby given of the following actions regarding permits for takes of endangered and threatened species for the purposes of scientific research and/or enhancement under the Endangered Species Act (ESA): NMFS has received an application for a scientific research permit from Dr. Steve W. Ross, of NC National Estuarine Research Reserve.

DATES: Comments or requests for a public hearing on this new application must be received at the appropriate address or fax number no later than 5 p.m. eastern standard time on December 31, 2001.

ADDRESSES: Written comments on this new application should be sent to the appropriate office as indicated below. Comments may also be sent via fax to the number indicated for the application. Comments will not be accepted if submitted via e-mail or the Internet. The application and related documents are available for review in the indicated office, by appointment:

Permits, Conservation and Education Division, F/PR1, 1315 East West Highway, Silver Spring, MD 20910 (phone:301-713-1401, fax: 301-713-0376).

FOR FURTHER INFORMATION CONTACT: Lillian Becker, Silver Spring, MD (phone: 301-713-2319, fax: 301-713-0376, e-mail: Lillian.Becker@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10 (a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Endangered Shortnose Sturgeon (Acipenser brevirostrum)

Application 1353

The shortnose sturgeon, Acipenser brevirostrum, is the only federally listed endangered marine fish in North Carolina. In the late 1800's, NC shortnose and Atlantic sturgeon supported the largest sturgeon fishery in the southeastern U.S. Due to habitat loss and overfishing, NC sturgeon populations declined until both species were considered in danger of extinction in the state. This research will sample and track the shortnose sturgeon of the rivers of NC, including the Cape Fear river system, the Brunswick River, and the Northeast Cape Fear River. The fish will be collected by gillnetting, trawling, and electroshocking. They will then be documented for measurements, disease and catch per unit effort. The fish will then be tagged with an internal ultrasonic transmitter and released. The tagged fish will be monitored for the life of the battery of the implants, approximately 7 months.

Dated: November 26, 2001.
Ann Terbush,
Chief, Permits, Conservation and Education Division, Office of Protected Resources, National Marine Fisheries Service.

[FR Doc. 01-29768 Filed 11-29-01; 8:45 am]

BILLING CODE 3510-22-S